FEDERAL ELECTION COMMISSION

Sunshine Act Meeting

TIME AND DATE: Thursday, May 26, 2022 at 10 a.m.

PLACE: Hybrid Meeting: 1050 First Street NE, Washington, DC (12th Floor) and virtual.

Note: For those attending the meeting in person, current Covid-19 safety protocols for visitors, which are based on the CDC Covid-19 community level in Washington, DC, will be updated on the commission's contact page by the Monday before the meeting. See the contact page at https://www.fec.gov/contact/. If you would like to virtually access the meeting, see the instructions below.

STATUS: This meeting will be open to the public, subject to the above-referenced guidance regarding the Covid-19 community level and corresponding health and safety procedures. To access the meeting virtually, go to the commission's website www.fec.gov and click on the banner to be taken to the meeting page.

MATTERS TO BE CONSIDERED:

Interim Final Rule: Independent Expenditure Reporting

Interim Final Rule: Repayment of Candidate Loans

Draft Advisory Opinion 2022-05: DSCC

Draft Advisory Opinion 2022-03: Democracy Engine, LLC

Proposed Final Audit Report on Mike Braun for Indiana (A19-02)

Initial Determination on Eligibility to Receive Primary Election Public Funds—Howie Hawkins, Howie Hawkins 2020 (LRA 1132)

Management and Administrative Matters

CONTACT PERSON FOR MORE INFORMATION:

Judith Ingram, Press Officer

Telephone: (202) 694-1220

Authority: Government in the Sunshine Act, 5 U.S.C. 552b.

Individuals who plan to attend in person and who require special assistance, such as sign language interpretation or other reasonable accommodations, should contact Laura E. Sinram, Acting Secretary and Clerk, at (202) 694-1040, at least 72 hours prior to the meeting date.

Vicktoria J. Allen,
Acting Deputy Secretary of the Commission.

[FR Doc. 2022-11176 Filed 5-19-22; 4:15 pm]

BILLING CODE 6715-01-P